DEPARTMENT OF COMMERCE

International Trade Administration

[A-525-001, A-351-854, A-891-001, A-729-803, A-428-849, A-484-804, A-533-895, A-560-835, A-475-842, A-580-906, A-523-814, A-485-809, A-801-001, A-856-001, A-791-825, A-469-820, A-583-867, A-489-839]

Common Alloy Aluminum Sheet From Bahrain, Brazil, Croatia, Egypt, Germany, Greece, India, Indonesia, Italy, Republic of Korea, Oman, Romania, Serbia, Slovenia, South Africa, Spain, Taiwan, and the Republic of Turkey: Postponement of Preliminary Determinations in the Less-Than-Fair-Value Investigations

AGENCY: Enforcement and Compliance, International Trade Administration, Department of Commerce.

DATES: Applicable July 29, 2020.

FOR FURTHER INFORMATION CONTACT: Allison Hollander at (202) 482-2805 (Bahrain); Shanah Lee at (202) 482-6386 (Brazil); Irene Gorelik at (202) 482-6905 (Croatia); Magd Zalok at (202) 482-4162 (Egypt); Jonathan Hill at (202) 482-3518 (Germany); Samantha Kinney at (202) 482-2285 (Greece); Jasun Moy at (202) 482-8194 (India); John Drury at (202) 482-0195 and Glenn Bass at (202) 482-8338 (Indonesia); Kathryn Wallace at (202) 482-6251 (Italy); Matthew Renkey at (202) 482-2312 (Republic of Korea (Korea)); Chelsey Simonovich at (202) 482-1979 (Oman); Krisha Hill at (202) 482-4037 (Romania); Jaron Moore at (202) 482-3640 (Serbia); Faris Montgomery at (202) 482-1537 (Slovenia); Laurel LaCivita at (202) 482-4243 (South Africa); Rachel Greenberg at (202) 482-0652 (Spain); Kathryn Turlo at (202) 482-3870 (Taiwan); and Sean Carey at (202) 482-3964 (Republic of Turkey (Turkey)), AD/CVD Operations, Enforcement and Compliance, International Trade Administration, U.S. Department of Commerce, 1401 Constitution Avenue NW, Washington, DC 20230.

SUPPLEMENTARY INFORMATION:

Background

On March 30, 2020, the Department of Commerce (Commerce) initiated less-than-fair-value (LTFV) investigations of imports of common alloy aluminum sheet (aluminum sheet) from Bahrain, Brazil, Croatia, Egypt, Germany, Greece, India, Indonesia, Italy, Korea, Oman, Romania, Serbia, Slovenia, South Africa, Spain, Taiwan, and Turkey.¹ Currently, the preliminary determinations are due no later than August 17, 2020.

¹ See Common Alloy Aluminum Sheet from Bahrain, Brazil, Croatia, Egypt, Germany, Greece, India, Indonesia, Italy, Republic of Korea, Oman, Romania, Serbia, Slovenia, South Africa, Spain, Taiwan and the Republic of Turkey: Initiation of Less-Than-Fair-Value Investigations, 85 FR 19444 (April 7, 2020).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 16, 2020, the petitioners ² submitted a timely request that Commerce postpone the preliminary determinations in these LTFV investigations.³ The petitioners stated that they request postponement so that Commerce may review the petitioners' comments on the questionnaire responses, issue supplemental questionnaires, and conduct a complete and thorough analysis in these investigations.⁴

² The petitioners are the Aluminum Association Common Alloy Aluminum Sheet Trade Enforcement Working Group and its individual members: Aleris Rolled Products, Inc.; Arconic, Inc.; Constellium Rolled Products Ravenswood, LLC; JW Aluminum Company; Novelis Corporation; and Texarkana Aluminum, Inc.

³ See Petitioners' Letter, “Common Alloy Aluminum Sheet from Bahrain, Brazil, Croatia, Egypt, Germany, Greece, India, Indonesia, Italy, Republic of Korea, Oman, Romania, Serbia, Slovenia, South Africa, Spain, Taiwan and the Republic of Turkey,” dated July 16, 2020.

⁴ Id.

For the reasons stated above, and because there are no compelling reasons to deny the request, Commerce, in accordance with section 733(c)(1)(A) of the Act, is postponing the deadline for the preliminary determinations by 50 days (i.e., 190 days after the date on which these investigations were initiated). As a result, Commerce will issue its preliminary determinations no later than October 6, 2020. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: July 22, 2020.
Jeffrey I. Kessler,
Assistant Secretary for Enforcement and Compliance.

[FR Doc. 2020-16427 Filed 7-28-20; 8:45 am]

BILLING CODE 3510-DS-P